INTERNATIONAL TRADE COMMISSION

[Investigation Nos. 701-TA-739-740 and 731-TA-1716-1717 (Final)]

Thermoformed Molded Fiber Products From China and Vietnam; Revised Schedule for the Subject Investigations

AGENCY: United States International Trade Commission.

ACTION: Notice.

DATES: June 11, 2025.

FOR FURTHER INFORMATION CONTACT: Caitlyn Costello (202-205-2058), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On May 12, 2025, the Commission established a schedule for the conduct of the final phase of the subject investigation (90 FR 23066, May 30, 2025). Subsequently, the American Molded Fiber Coalition requested to change the date of the hearing in these investigations from September 25, 2025, to September 30, 2025. The Commission granted the request and is revising its schedule.

The Commission's revised dates in the schedule are as follows: the deadline for filing prehearing briefs is 5:15 p.m. on September 19, 2025; requests to appear at the hearing must be filed with the Secretary to the Commission not later than 5:15 p.m. on September 25, 2025; the prehearing conference will be held at the U.S. International Trade Commission Building on September 29, 2025, if deemed necessary; the hearing will be held at the U.S. International Trade Commission Building at 9:30 a.m. on September 30, 2025; and the deadline for filing posthearing briefs is 5:15 p.m. on October 7, 2025.

For further information concerning these proceedings, see the Commission's notice cited above and the Commission's Rules of Practice and Procedure, part 201, subparts A and B (19 CFR part 201), and part 207, subparts A and C (19 CFR part 207).

Authority: These investigations are being conducted under authority of title VII of the Tariff Act of 1930; this notice is published pursuant to § 207.21 of the Commission's rules.

By order of the Commission.
Issued: June 11, 2025.
Lisa Barton,
Secretary to the Commission.

[FR Doc. 2025-10964 Filed 6-16-25; 8:45 am]

BILLING CODE 7020-02-P